DEPARTMENT OF THE TREASURY

Office of Foreign Assets Control

Notice of OFAC Sanctions Actions

AGENCY: Office of Foreign Assets Control, Treasury.

ACTION: Notice.

SUMMARY: The U.S. Department of the Treasury's Office of Foreign Assets Control (“OFAC”) is updating the identifying information on its Specially Designated Nationals and Blocked Persons List (“SDN List”) for a person whose property and interests in property are blocked pursuant to Executive Order 13224 of September 23, 2001, “Blocking Property and Prohibiting Transactions With Persons Who Commit, Threaten To Commit, or Support Terrorism,” as amended by Executive Order 13886 of September 9, 2019, “Modernizing Sanctions to Combat Terrorism”.

DATES: See SUPPLEMENTARY INFORMATION section for applicable date(s).

FOR FURTHER INFORMATION CONTACT:

OFAC: Andrea Gacki, Director, tel.: 202-622-2490; Associate Director for Global Targeting, tel.: 202-622-2420; Assistant Director for Licensing, tel.: 202-622-2480; Assistant Director for Regulatory Affairs, tel.: 202-622-4855; or the Assistant Director for Sanctions Compliance & Evaluation, tel.: 202-622-2490.

SUPPLEMENTARY INFORMATION:

Electronic Availability

The SDN List and additional information concerning OFAC sanctions programs are available on OFAC's website (https://www.treasury.gov/ofac).

Notice of OFAC Actions

1. On October 26, 2021, OFAC published the following revised information for the following person on OFAC's SDN List whose property and interests in property are blocked pursuant to Executive Order 13224, as amended.

Individual

1. ISMAIL, Talib Husayn Ali Jarak (a.k.a. ESMAEL, Taleb H. A. J.), Block 8, Street 20, House No. 33, Jabriya, Kuwait; Street 21, Salem Al Mubarak Avenue, Block 20, Building 13, Salmiya, Kuwait; P.O. Box 3390, Safat 13034, Kuwait City, Kuwait; P.O. Box 126, Safat 13002, Kuwait City, Kuwait; Block 8, Street 103, Building 33, Apartment 33, Jabriya, Kuwait; Mubarak Al Kabir, Darwaza abdul Razak Square, Kuwait City, Kuwait; DOB 30 Apr 1956; POB Kuwait City, Kuwait; nationality Kuwait; Gender Male (individual) [SDGT] (Linked To: HIZBALLAH).

Dated: October 26, 2021.
Bradley T. Smith,
Acting Director, Office of Foreign Assets Control, U.S. Department of the Treasury.

[FR Doc. 2021-26156 Filed 12-1-21; 8:45 am]

BILLING CODE 4810-AL-P